DEPARTMENT OF HEALTH AND HUMAN SERVICES

[Document Identifier: OS-0990-NEW; 30-day notice]

Agency Information Collection Request 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: ONC State HIE State Plans—OMB No. 0990—Existing collection in use without OMB control number—Office of the National Coordinator for Health Information Technology (ONC).

Abstract: The purpose of the State Health Information Exchange Cooperative Agreement Program, as authorized by Section 3013 of the American Recovery and Reinvestment Act is to provide grants to States and Qualified State Designated Entities is to facilitate and expand the secure, electronic movement and use of health information among organizations according to national recognized standards. Section 3013 requires States and Qualified State Designated Entities to have approved State Plans, consisting of strategic and operational components, before funding can be used for implementation activities. The State Plans must be submitted to the National Coordinator for Health Information Technology during the first year of the project period in order to receive implementation funding through the cooperative agreement. Annual updates to the State plans will be required in the three remaining project periods. The data collection will last four years, which is the duration of the project, and this request is for the data collection for the first three years of that project period.

Estimated Annualized Burden Table
Type of respondent | Form name | Number of respondents | Number responses per respondent | Average burden per response (in hours) | Total burden hours
State government or Qualified State Designated Entity | State Plans (Strategic and Operational) | 56 | 1 | 3,341.3 | 187,112.8
State government or Qualified State Designated Entity | Subsequent updates to the State Plan | 56 | 1 | 500 | 28,000
Total |  |  |  |  | 215,114.6

Seleda Perryman,
Office of the Secretary, Paperwork Reduction Act Clearance Officer.

[FR Doc. 2010-26955 Filed 10-25-10; 8:45 am]

BILLING CODE 4150-45-P